DEPARTMENT OF LABOR

Employment and Training Administration

[TA-W-72,510]

Jeld-Wen Millwork Distribution, Wilkesboro, NC; Notice of Negative Determination on Reconsideration

On October 7, 2010, the Department of Labor issued an Affirmative Determination Regarding Application for Reconsideration for workers and former workers of Jeld-Wen Millwork Distribution, Wilkesboro, North Carolina (subject firm). The Department's Notice was published in the Federal Register on October 25, 2010 (75 FR 65513).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition, filed by a company official, stated that the workers distribute “wood exterior door frames” and that “door frames are being imported from China and South America at a price we can't compete with at this location.”

The initial negative determination was based on the findings that there was no increase in imports of like or directly competitive articles by either the subject firm or its customers, and no shift to/acquisition from a foreign country by the workers' firm in production of like or directly competitive articles. The investigation also revealed that the subject firm did not produce a component part that was used by a firm that employed workers eligible to apply for Trade Adjustment Assistance (TAA) and used the component parts in the production of the article that was the basis for the TAA certification.

The workers, in the request for reconsideration, state that the subject firm's competitors and customer have increased imports of like or directly competitive articles from China. The workers also allege that the articles produced at the subject firm include door component parts (“door jambs, door T-AST, door mull posts”) and window component parts (“replacement window grills”).

Information obtained during the reconsideration investigation confirmed that the only articles produced by the subject firm during the relevant period are wood exterior door frames; that, during the relevant period, the subject firm did not increase reliance on imports of wood exterior door frames; and that the subject firm supplies articles exclusively to internal customers.

Moreover, information obtained during the reconsideration investigation confirmed that that the subject firm did not perform a service (such as distribution) that was used by a firm that both employed a worker group eligible to apply for TAA and directly used the services supplied in the production of an article or supply of a service that was the basis for the TAA certification.

Aggregate data reviewed during the reconsideration investigation revealed that U.S. imports of articles like or directly competitive with wood exterior door frames did not increase during the relevant period.

Conclusion

After reconsideration, I affirm the original notice of negative determination of eligibility to apply for worker adjustment assistance for workers and former workers of Jeld-Wen Millwork Distribution, Wilkesboro, North Carolina.

Signed in Washington, DC, on this 4th day of March 2011.
Del Min Amy Chen,
Certifying Officer, Office of Trade Adjustment Assistance.

[FR Doc. 2011-6185 Filed 3-16-11; 8:45 am]

BILLING CODE 4510-FN-P